DEPARTMENT OF THE INTERIOR

Bureau of Land Management

[CA-650-01-1220-JG-O64B]

Closure Order for Motorized Vehicle Use, Furnace Creek Canyon Road, Mono County, California

AGENCY: Bureau of Land Management, United States Department of the Interior.

ACTION: Notice of vehicle closure in Furnace Creek Canyon, White Mountains, Mono County, California.

SUMMARY: Notice is hereby given that the route through Furnace Creek Canyon is closed to motorized vehicle use.

Order: The public lands, located to the southwest from a point near the mouth of Furnace Creek canyon approximately 1.25 miles below the U.S. Forest Service boundary and 2.5 miles from HWY 264, are closed to the use of motorized or off-road vehicles. No person may use, drive, transport, park, let stand, or have charge or control over any motorized vehicle in the area located east of the closure signs and locked gate. Exemptions to this order may be granted to law enforcement and other emergency vehicles in the course of official duties and for other approved administrative activities performed by the Bureau of Land Management or U.S. Forest Service. Exemptions may also be granted to those persons involved with ranching activities associated with the Whitewolf Grazing Allotment.

EFFECTIVE DATE: This closure became effective Friday, March 7, 2003. The closure will remain in effect unless rescinded by the authorizing official. The permanent decision regarding motorized or off-road vehicle use in Furnace Creek will be determined through an amendment of the California Desert Conservation Area Plan, which is expected to occur by June 30, 2004. BLM will implement the purposed action soon after the effective closure date of March 7, 2003 without prior notice and opportunity for public comment because of the imminent need for regulatory authority to prevent damage to wetland and riparian resources.

FOR FURTHER INFORMATION CONTACT: Field Office Manager, Bureau of Land Management, Ridgecrest Field Office, 300 South Richmond Road, Ridgecrest CA 93555, (760) 384-5400.

SUPPLEMENTARY INFORMATION: The BLM has established national standards for the management and protection of riparian and wetland habitat on the Public Lands. Monitoring conducted during November 2002 and February 2003 indicates that the Furnace Creek fluvial system is not meeting the BLM's standards for a properly functioning riparian system. presently, portions of the Furnace Creek drainage are considered “functional-at risk”. Riparian-wetland areas are considered “functional-at risk” when an existing soil, water, or vegetation condition makes them susceptible to degradation. Presently, there are seven locations in Furnace Creek where the existing vehicle route crosses the stream. Significant erosion and sedimentation of the stream are occurring at two stream crossings. Erosion in both locations is contributing excessive sediment to the adjacent riparian area. moreover, head-cutting is forming at both locations. Head-cuts are a fluvial geomorphic feature indicative of unstable conditions. The proposed closure order is consistent with protecting and restoring Furnace Creek to a properly functioning riparian system.

Bureau of Land Management's regulatory policy concerning the use of off-road vehicles on public lands is found in 43 CFR 8341. Whenever the authorized officer determines that OHV use will cause or is causing considerable adverse effects on resources (soil, vegetation, wildlife habitat, cultural, historic, scenic, recreation, or other resources), the area must be immediately closed to the type of use causing the adverse effects. The closure must remain in force only until the adverse effects are eliminated and measures to prevent their recurrency have been implemented (whichever occurs first). A considerable adverse environmental effect resulting from the use of off-road vehicles is defined in 43 CFR part 8341 as any environmental impact that causes:

(a) Significant damage to cultural or natural resources, including but not limited to historic, archaeological, soil, water, air, vegetation, scenic values; or

(b) Significant harassment of wildlife and/or significant disruption of wildlife habitats; . . . and is irreparable due to the impossibility or impracticality of performing corrective or remedial action.

Furnace Creek canyon will remain open for human use that does not entail the use of a motorized vehicle within the area closed by this order. Maps depicting the affected area are available by contacting the Ridgecrest Field Office, California Desert Conservation Area, Ridgecrest, CA. A gate will be erected at the closure points and the affected area will be posted with public notices and standard motorized vehicle closure signs.

Authority for this closure is found in 43 CFR 8364.1. Violations of this order may be subject to the penalties provided according to 43 CFR 8360.0-7.

Dated: March 11, 2003.
Hector A. Villalobos,
Ridgecrest Field Manager.

[FR Doc. 03-12522 Filed 5-19-03; 8:45 am]

BILLING CODE 4310-AG-M